ENVIRONMENTAL PROTECTION AGENCY

40 CFR Part 62

[EPA-R05-OAR-2013-0678; FRL-9903-34-Region 5]

Proposal for Hospital/Medical/Infectious Waste Incinerator Negative Declaration for Designated Facilities and Pollutants: Michigan and Wisconsin

AGENCY: Environmental Protection Agency (EPA).

ACTION: Proposed rule.

SUMMARY: EPA is notifying the public that we have received from Michigan and Wisconsin negative declarations for Hospital/Medical/Infectious Waste Incinerators (HMIWI). The Michigan Department of Environmental Quality submitted on August 9, 2013 a negative declaration certifying that there are no HMIWI units currently operating in the state of Michigan. The Wisconsin Department of Natural Resources submitted on July 15, 2013 a negative declaration certifying that there are no HMIWI units currently operating in the state of Wisconsin.

DATES: Comments must be received on or before January 2, 2014.

ADDRESSES: Submit your comments, identified by Docket ID No. EPA-R05-OAR-2013-0678, by one of the following methods:

1. www.regulations.gov: Follow the on-line instructions for submitting comments.

2. Email: nash.carlton@epa.gov.

3. Fax: (312) 692-2543.

4. Mail: Carlton T. Nash, Chief, Toxics and Global Atmosphere Section, Air Toxics and Assessment Branch (AT-18J), U.S. Environmental Protection Agency, 77 West Jackson Boulevard, Chicago, Illinois 60604.

5. Hand Delivery: Carlton T. Nash, Chief, Toxics and Global Atmosphere Section, Air Toxics and Assessment Branch (AT-18J), U.S. Environmental Protection Agency, 77 West Jackson Boulevard, Chicago, Illinois 60604. Such deliveries are only accepted during the Regional Office normal hours of operation, and special arrangements should be made for deliveries of boxed information. The Regional Office official hours of business are Monday through Friday, 8:30 a.m. to 4:30 p.m. excluding Federal holidays.

Please see the direct final rule which is located in the Rules section of this Federal Register for detailed instructions on how to submit comments.

FOR FURTHER INFORMATION CONTACT: Margaret Sieffert, Environmental Engineer, Environmental Protection Agency, Region 5, 77 West Jackson Boulevard (AT-18J), Chicago, Illinois 60604, (312) 353-1151, sieffert.margaret@epa.gov.

SUPPLEMENTARY INFORMATION: In the Rules section of this Federal Register, EPA is amending 40 CFR part 62 to reflect the States' submittals of the negative declarations as a direct final rule without prior proposal because the Agency views this as a noncontroversial action and anticipates no adverse comments. A detailed rationale for the action is set forth in the direct final rule. If no adverse comments are received in response to this rule, no further activity is contemplated. If EPA receives adverse comments, we will withdraw the direct final rule and will address all public comments in a subsequent final rule based on this proposed rule. EPA will not institute a second comment period. Any parties interested in commenting on this action should do so at this time. Please note that if EPA receives adverse comment on any part of this rule, and if that provision may be severed from the remainder of the rule, EPA may adopt as final those provisions of the rule that are not the subject of an adverse comment. For additional information, see the direct final rule which is located in the Rules section of this Federal Register.

Dated: November 8, 2013.
Susan Hedman,
Regional Administrator, Region 5.

[FR Doc. 2013-28964 Filed 12-2-13; 8:45 am]

BILLING CODE 6560-50-P